DEPARTMENT OF THE INTERIOR

National Park Service

[NPS-WASO-NAGPRA-NPS0025140; PPWOCRADN0-PCU00RP14.R50000]

Notice of Inventory Completion: West Virginia Division of Culture and History, Charleston, WV

AGENCY: National Park Service, Interior.

ACTION: Notice.

SUMMARY: The West Virginia Division of Culture and History (WVDCH) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the WVDCH. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the WVDCH at the address in this notice by May 4, 2018.

ADDRESSES: Caryn Gresham, Deputy Commissioner, West Virginia Division of Culture and History, 1900 Kanawha Boulevard East, Charleston WV 25305-0300, telephone (304) 558-0220, email caryn.s.gresham@wv.gov.

SUPPLEMENTARY INFORMATION: Notice is here given in accordance with the Native American Graves Protection and Repatriation Act (NAGPRA), 25 U.S.C. 3003, of the completion of an inventory of human remains and associated funerary objects under the control of the WVDCH, Charleston, WV. The human remains and associated funerary objects were removed from the Buffalo Site (46PU31), Putnam County, WV.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the WVDCH professional staff in consultation with representatives of the Absentee-Shawnee Tribe of Indians of Oklahoma; Cayuga Nation; Cherokee Nation; Delaware Nation, Oklahoma; Delaware Tribe of Indians; Eastern Band of Cherokee Indians; Eastern Shawnee Tribe of Oklahoma; Ponca Tribe of Indians of Oklahoma; Ponca Tribe of Nebraska; Seneca Nation of Indians (previously listed as the Seneca Nation of New York); Shawnee Tribe; The Osage Nation (previously listed as the Osage Tribe); The Quapaw Tribe of Indians; Tonawanda Band of Seneca (previously listed as the Tonawanda Band of Seneca Indians of New York); Tuscarora Nation; and United Keetoowah Band of Cherokee Indians in Oklahoma. An invitation to consult was also extended to the Catawba Indian Nation (aka Catawba Tribe of South Carolina); Kaw Nation, Oklahoma; Miami Tribe of Oklahoma; Omaha Tribe of Nebraska; Oneida Nation (previously listed as the Oneida Tribe of Indians of Wisconsin); Oneida Indian Nation (previously listed as the Oneida Nation of New York; Onondaga Nation; Saint Regis Mohawk Tribe (previously listed as the St. Regis Band of Mohawk Indians of New York); Seneca-Cayuga Nation (previously listed as the Seneca-Cayuga Tribe of Oklahoma); Stockbridge Munsee Community, Wisconsin; Tunica-Biloxi Indian Tribe; and Wyandotte Nation, hereafter referred to as “The Consulted and Invited Tribes.”

History and Description of the Remains

From 1963 through 1965, human remains representing, at minimum, 1,031 individuals were removed from the Buffalo Site, Putnam County, WV. Union Carbide Corporation (UCC) “acquired the property in the 1960s with the intention of building a plant at the site. Dr. Edward V. McMichael of the West Virginia Geologic and Economic Survey (WVGES) Archeology Office requested permission from UCC to excavate at the site. In 1963, a lease agreement was signed by UCC and the WVGES, wherein the state of West Virginia was given the right to all cultural items excavated at the site. From May through October 1963, Dr. McMichael and a crew excavated the site. In 1965, the site excavations ceased. The cultural items and human remains were taken to McMichael's headquarters in Buffalo, WV, and later transported to the WVGES offices in Morgantown, WV. In 1966, State Archeologist Bettye Broyles loaned the human remains to James Metress at Clarion State College, PA, for research. Metress transferred to the University of Toledo, OH, and took the human remains with him. In the 1980s, the human remains were moved to the Anthropology Department of The Ohio State University (OSU) in Columbus, OH. In September 2008, some of the human remains were physically transferred to the Grave Creek Mound Archaeology Research Complex in Moundsville, WV, which is under the control of the WVDCH. Between November 2011 and April 2016, fourteen additional boxes of human remains were located at OSU and physically transferred to the WVDCH. No known individuals were identified. The 2,050 associated funerary objects include 1 lot of prehistoric ceramic sherds, 2 partially reconstructed shell tempered pots, 1 lot of animal bone fragments, 13 antler tines, 2 antler tine projectile points, 1 antler pendant, 8 antler tools, 611 bone beads, 13 animal tooth pendants, 16 bone awls/pins, 5 bone tools, 1 bone comb, 2 polished bone tubes, 1 elk rib shoulder ornament, 1 turtle shell cup, 1 bird bone flute, 1 bone fish hook, 11 copper wrapped beads/fragments, 1 copper tinkler, 1 pierced worked copper fragment, 28 copper fragments, 1 glass seed bead, 1 lot of shell fragments, 1,139 shell beads, 11 shell hoes, 17 shell ornaments, 12 shell pendants, 2 weeping eye mask/gorgets, 1 rattlesnake gorget, 26 plain shell gorgets, 2 gorgets with unidentified motif, 1 shell maskette, 1 lot of lithic debitage, 50 projectile points, 2 cannel coal pendants, 1 stone pipe bowl, 1 stone “tablet,” and 61 hematite fragments.

Determinations Made by the West Virginia Division of Culture and History

Officials of the West Virginia Division of Culture and History have determined that:

• Pursuant to 25 U.S.C. 3001(9), the human remains described in this notice are Native American based on osteological analysis and archeological context.

• Pursuant to 25 U.S.C. 3001(9), the human remains described in this notice represent the physical remains of 1,031 individuals of Native American ancestry.

• Pursuant to 25 U.S.C. 3001(3)(A), the 2,050 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Absentee-Shawnee Tribe of Indians of Oklahoma; Cayuga Nation; Cherokee Nation; Delaware Nation, Oklahoma; Delaware Tribe of Indians; Eastern Band of Cherokee Indians; Eastern Shawnee Tribe of Oklahoma; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Shawnee Tribe; Stockbridge Munsee Community, Wisconsin; Tonawanda Band of Seneca (previously listed as the Tonawanda Band of Seneca Indians of New York); Tuscarora Nation; United Keetoowah Band of Cherokee Indians in Oklahoma; and Wyandotte Nation, hereafter referred to as “The Aboriginal Land Tribes.”

• Pursuant to 43 CFR 10.11(c)(1), the disposition of the human remains and associated funerary objects may be to The Aboriginal Land Tribes. The Cherokee Nation, Eastern Shawnee Tribe of Oklahoma, and Tonawanda Band of Seneca (previously listed as the Tonawanda Band of Seneca Indians of New York), have submitted statements of agreement to request joint disposition of the human remains and associated funerary objects described in this notice. Statements of support for the disposition were submitted by the Absentee-Shawnee Tribe of Indians of Oklahoma, Delaware Nation, and Eastern Band of Cherokee Indians.

Additional Requestors and Disposition

Representatives of any Indian Tribe or Native Hawaiian organization not identified in this notice that wish to request transfer of control of these human remains and associated funerary objects should submit a written request with information in support of the request to Caryn Gresham, Deputy Commissioner, West Virginia Division of Culture and History, 1900 Kanawha Boulevard East, Charleston WV 25305-0300, telephone (304) 558-0220, email caryn.s.gresham@wv.gov, by May 4, 2018. After that date, if no additional requestors have come forward, transfer of control of the human remains and associated funerary objects to The Aboriginal Land Tribes may proceed.

The WVDCH is responsible for notifying The Consulted and Invited Tribes that this notice has been published.

Dated: February 28, 2018.
Melanie O'Brien,
Manager, National NAGPRA Program.

[FR Doc. 2018-06832 Filed 4-3-18; 8:45 am]

BILLING CODE 4312-52-P